DEPARTMENT OF ENERGY

Federal Energy Regulatory Commission

[Docket No. RP01-262-001]

Columbia Gas Transmission Corporation; Notice of Compliance Filing

May 11, 2001.

Take notice that on April 30, 2001, Columbia Gas Transmission Corporation (Columbia) tendered for filing its responses to the five inquiries made by the Commission in seeking additional information on Columbia's retainage percentages filed on March 1, 2001.

Columbia states that the filing is being made in compliance with the Commission letter order issued on March 28, 2001 ¹ in the above-referenced proceeding.

¹ 94 FERC ¶61,350 (2001).

Any person desiring to protest said filing should file a protest with the Federal Energy Regulatory Commission, 888 First Street, NE., Washington, DC 20426, in accordance with Section 385.211 of the Commission's Rules and Regulations. All such protests must be filed on or before May 21, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12397 Filed 5-16-01; 8:45 am]

BILLING CODE 6717-01-M